DEPARTMENT OF THE INTERIOR

National Park Service

[NPS-WASO-NAGPRA-21134; PPWOCRADN0-PCU00RP14.R50000]

Notice of Inventory Completion: U.S. Department of the Interior, National Park Service, Canyon de Chelly National Monument, Chinle, AZ

AGENCY: National Park Service, Interior.

ACTION: Notice.

SUMMARY: The U.S. Department of the Interior, National Park Service, Canyon de Chelly National Monument has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Canyon de Chelly National Monument. If no additional requestors come forward, transfer of control of the human remains to the Indian tribes or Native Hawaiian organizations stated in this notice may proceed.

DATES: Representatives of any Indian tribe or Native Hawaiian organization not identified in this notice that wish to request transfer of control of these human remains should submit a written request with information in support of the request to Canyon de Chelly National Monument at the address in this notice by July 1, 2016.

ADDRESSES: Lyn Carranza, Superintendent, Canyon de Chelly National Monument, P.O. Box 588, Chinle, AZ 86503, telephone (928) 674-5500 ext. 224, email lyn_carranza@nps.gov.

SUPPLEMENTARY INFORMATION: Notice is here given in accordance with the Native American Graves Protection and Repatriation Act (NAGPRA), 25 U.S.C. 3003, of the completion of an inventory of human remains under the control of the U.S. Department of the Interior, National Park Service, Canyon de Chelly National Monument, Chinle, AZ. The human remains were removed from sites in Apache County, AZ.

This notice is published as part of the National Park Service's administrative responsibilities under NAGPRA, 25 U.S.C. 3003(d)(3) and 43 CFR 10.11(d). The determinations in this notice are the sole responsibility of the Superintendent, Canyon de Chelly National Monument.

Consultation

Canyon de Chelly National Monument professional staff in consultation with representatives of the Apache Tribe of Oklahoma; Fort McDowell Yavapai Nation, Arizona; Fort Sill Apache Tribe of Oklahoma; Hopi Tribe of Arizona; Jicarilla Apache Nation, New Mexico; Kaibab Band of Paiute Indians of the Kaibab Indian Reservation, Arizona; Mescalero Apache Tribe of the Mescalero Reservation, New Mexico; Navajo Nation, Arizona, New Mexico & Utah; Pueblo of Acoma, New Mexico; Pueblo of Jemez, New Mexico; Pueblo of Laguna, New Mexico; Pueblo of Nambe, New Mexico; Pueblo of Pojoaque, New Mexico; Pueblo of San Ildefonso, New Mexico; Pueblo of Santa Ana, New Mexico; Pueblo of Santa Clara, New Mexico; Pueblo of Taos, New Mexico; Pueblo of Tesuque, New Mexico; San Carlos Apache Tribe of the San Carlos Reservation, Arizona; Southern Ute Indian Tribe of the Southern Ute Reservation, Colorado; Ute Mountain Ute Tribe (previously listed as the Ute Mountain Tribe of the Ute Mountain Reservation, Colorado, New Mexico & Utah); White Mountain Apache Tribe of the Fort Apache Reservation, Arizona; Yavapai-Apache Nation of the Camp Verde Indian Reservation, Arizona; and Zuni Tribe of the Zuni Reservation, New Mexico (hereafter referred to as “The Consulted Tribes”).

The following tribes were invited to consult but did not participate in the face-to-face consultation meeting: Kewa Pueblo, New Mexico (previously listed as the Pueblo of Santo Domingo); Ohkay Owingeh, New Mexico (previously listed as the Pueblo of San Juan); Pueblo of Cochiti, New Mexico; Pueblo of Isleta, New Mexico; Pueblo of Picuris, New Mexico; Pueblo of San Felipe, New Mexico; Pueblo of Sandia, New Mexico; Pueblo of Zia, New Mexico (hereafter referred to as “The Invited Tribes”).

History and Description of the Remains

Canyon de Chelly National Monument was established in 1931 on lands that were then, and continue to be, held in trust by the United States for the Navajo Nation, Arizona, New Mexico & Utah.

Between 1938 and 1973, human remains representing, at minimum, two individuals were removed from an unknown location within the boundaries of Canyon de Chelly National Monument in Apache County, AZ. No known individuals were identified. No associated funerary objects are present.

In 1950, human remains representing, at minimum, one individual were removed from an unknown site in Deer Trail Canyon within the boundaries of Canyon de Chelly National Monument in Apache County, AZ. No known individuals were identified. No associated funerary objects are present.

Prior to 1956, human remains representing, at minimum, two individuals were removed from unknown locations “near NPS 7” within the boundaries of Canyon de Chelly National Monument in Apache County, AZ. No known individuals were identified. No associated funerary objects are present.

Prior to 1960, human remains representing, at minimum, four individuals were removed from unknown locations, three of whom were from within monument boundaries and one likely from within monument boundaries, in Apache County, AZ. No known individuals were identified. No associated funerary objects are present.

Prior to 1960, human remains representing, at minimum, two individuals were removed from an unknown location along the south rim of Canyon de Chelly within the boundaries of Canyon de Chelly National Monument in Apache County, AZ. No known individuals were identified. No associated funerary objects are present.

Prior to 1960, human remains representing, at minimum, one individual were removed from a “high shallow cave” site in Canyon del Muerto within the boundaries of Canyon de Chelly National Monument in Apache County, AZ. No known individuals were identified. No associated funerary objects are present.

Prior to 1966, human remains representing, at minimum, two individuals were removed from a site outside monument boundaries in Salinas Springs in Apache County, AZ. No known individuals were identified. No associated funerary objects are present.

Prior to 1967, human remains representing, at minimum, four individuals were removed from an unknown site within the boundaries of Canyon de Chelly National Monument in Apache County, AZ. No known individuals were identified. No associated funerary objects are present.

Prior to 1967, human remains representing, at minimum, two individuals were removed from an unknown location likely within the boundaries of Canyon de Chelly National Monument in Apache County, AZ. No known individuals were identified. No associated funerary objects are present.

Prior to 1969, human remains representing, at minimum, one individual were removed from an unknown location in Canyon del Muerto Wash within the boundaries of Canyon de Chelly National Monument in Apache County, AZ. No known individuals were identified. No associated funerary objects are present.

Determinations Made by Canyon de Chelly National Monument

Officials of Canyon de Chelly National Monument have determined that:

• Pursuant to 25 U.S.C. 3001(9), the human remains described in this notice are Native American based on osteological analysis and the known archeological context of Canyon de Chelly National Monument.

• Pursuant to 25 U.S.C. 3001(9), the human remains described in this notice represent the physical remains of 21 individuals of Native American ancestry.

• Pursuant to 25 U.S.C. 3001(2), a relationship of shared group identity cannot be reasonably traced between the Native American human remains and any present-day Indian tribe.

• Pursuant to 25 U.S.C. 3001(15), the land from which the Native American human remains were removed is the tribal land of the Navajo Nation, Arizona, New Mexico & Utah.

• Pursuant to 43 CFR 10.11(c)(1), the disposition of the human remains may be to the Navajo Nation, Arizona, New Mexico & Utah.

Additional Requestors and Disposition

Representatives of any Indian tribe or Native Hawaiian organization not identified in this notice that wish to request transfer of control of these human remains should submit a written request with information in support of the request to Lyn Carranza, Superintendent, Canyon de Chelly National Monument, P.O. Box 588, Chinle, AZ 86503, telephone (928) 674-5500 ext. 224, email lyn_carranza@nps.gov, by July 1, 2016. After that date, if no additional requestors have come forward, transfer of control of the human remains to the Navajo Nation, Arizona, New Mexico & Utah may proceed.

Canyon de Chelly National Monument is responsible for notifying The Consulted Tribes and The Invited Tribes that this notice has been published.

Dated: May 20, 2016.
Melanie O'Brien,
Manager, National NAGPRA Program.

[FR Doc. 2016-12746 Filed 5-31-16; 8:45 am]

BILLING CODE 4312-50-P